DEPARTMENT OF AGRICULTURE

Rural Housing Service

U.S. Department of Agriculture Multi-Family Housing Program 2014 Industry Forums—Open Teleconference and/or Web Conference Meetings

AGENCY: Rural Housing Service, USDA.

ACTION: Announcement of meetings.

SUMMARY: This Notice announces a series of Teleconferences and/or Web Conference Meetings regarding the USDA Multi-Family Housing Program. The Teleconference and/or Web Conference Meetings will be scheduled on a quarterly basis, but may be held more often at the Agency's discretion. This Notice also outlines suggested discussion topics for the meetings and is intended to notify the general public of their opportunity to participate in the Teleconference and/or Web Conference Meetings.

DATES: Teleconference and/or Web Conference Meetings are scheduled to occur during the months of March, June, September and December of 2014. The dates and times for the Teleconference and/or Web Conference Meetings will be announced via email to parties registered as described below.

FOR FURTHER INFORMATION CONTACT: Any member of the public wishing to register for the meetings and obtain the call-in number, access code, web link and other information for any of the public Teleconference and/or Web Conference Meetings may contact Timothy James, Loan and Finance Analyst, Multi-Family Housing, (919) 873-2056, fax at (202) 720-0302, or email timothy.james@wdc.usda.gov and provide their name, title, Agency/company name, address, telephone numbers and email address. Persons who are already registered do not need to register again.

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.)

Persons with disabilities who require alternative means for communication of program information (Braille, large print, audiotape, etc.) should contact USDA's TARGET Center at (202) 720-2600 (voice and TDD).

To file a complaint of discrimination, write to USDA, Assistant Secretary for Civil Rights, Office of the Assistant Secretary for Civil Rights, 1400 Independence Avenue SW., STOP 9410, Washington, DC 20250-9410 or call toll free at (866) 632-9992 (English) or (800) 877-8339 (TTD) or (866) 377-8642 (English Federal-relay) or (800) 845-6136 (Spanish Federal-relay).

USDA is an equal opportunity provider and employer.

SUPPLEMENTARY INFORMATION: The objectives of this series of teleconferences are as follows:

• Enhance the effectiveness of the Multi-Family Housing Program

• Establish a two-way communications forum to update industry participants and Rural Housing Service (RHS) staff

• Enhance RHS' awareness of issues that impact the Multi-Family Housing Program

• Increase transparency and accountability in the Multi-Family Housing Program

Topics to be discussed could include, but will not be limited to, the following:

• Updates on USDA Multi-Family Housing Program activities

• Perspectives on the Multi-Family Housing Notice of Funds Availability processes

• Comments on Section 514/516 and Section 515 transaction processes

• Comments on particular servicing-related activities of interest at that time

Dated: February 27, 2014.
Tony Hernandez,
Administrator, Rural Housing Service.

[FR Doc. 2014-05090 Filed 3-7-14; 8:45 am]

BILLING CODE 3410-XV-P